NATIONAL SCIENCE FOUNDATION

Advisory Committee for Cyberinfrastructure; Notice of Meeting

In accordance with Federal Advisory Committee Act (Pub. L. 92-463, as amended), the National Science Foundation announces the following meeting:

Name: Advisory Committee for Cyberinfrastructure (#25150).

Date/Time: May 3, 2007, 10 a.m. to 5 p.m.; May 4, 2007, 10 a.m. to 2 p.m.

Place: National Science Foundation, 4201 Wilson Boulevard, Room 1235, Arlington, VA. The Advisory Committee members will attend virtually.

Type of Meeting: Open.

Contact Person: Deborah White-Wilkins, National Science Foundation, 4201 Wilson Boulevard, Arlington, VA 22230, (703) 292-8970.

If you are attending the meeting and need access to the NSF, please contact the individual listed above so you name may be added to the building access list.

Purpose of Meeting: To provide advice concerning issues related to the oversight, integrity, development and enhancement of NSF's Office of Cyberinfrastructure.

Agenda:

May 3, 2007:

AM: Introductions and Updates—Office of Cyberinfrastructure activities.

PM: Presentation and Discussion—ACCI Subcommittee meetings and meeting with the Director and Deputy Director, NSF.

May 4, 2007:

AM: Presentation and Discussion—Office of Cyberinfrastructure.

PM: Discussion—Planning for next meeting; feedback; other business.

Dated: March 27, 2007.
Susanne Bolton,
Committee Management Officer.

[FR Doc. E7-5876 Filed 3-29-07; 8:45 am]

BILLING CODE 7555-01-P